DEPARTMENT OF COMMERCE

National Oceanic and Atmospheric Administration

50 CFR Part 679

[Docket No. 240304-0068; RTID 0648-XE549]

Fisheries of the Exclusive Economic Zone Off Alaska; Inseason Adjustment to the 2025 Bering Sea and Aleutian Islands Pollock, Atka Mackerel, and Pacific Cod Total Allowable Catch Amounts

AGENCY: National Marine Fisheries Service (NMFS), National Oceanic and Atmospheric Administration (NOAA), Commerce.

ACTION: Temporary rule; inseason adjustment; request for comments.

SUMMARY: NMFS is adjusting the 2025 total allowable catch (TAC) amounts for the Bering Sea and Aleutian Islands (BSAI) pollock, Atka mackerel, and Pacific cod fisheries. This action is necessary because NMFS has determined these TACs are incorrectly specified, and will ensure the BSAI pollock, Atka mackerel, and Pacific cod TACs are the appropriate amounts based on the best scientific information available. This action is consistent with the goals and objectives of the Fishery Management Plan for Groundfish of the BSAI (FMP).

DATES: Effective 0001 hours, Alaska local time (A.l.t.), January 1, 2025, until the effective date of the final 2025 and 2026 harvest specifications for BSAI groundfish, unless otherwise modified or superseded through publication of a notification in the Federal Register.

Comments must be received at the following address no later than 4:30 p.m., A.l.t., January 13, 2025.

ADDRESSES: You may submit comments on this document, identified by NOAA-NMFS-2023-0124, by any of the following methods:

• Electronic Submission: Submit all electronic public comments via the Federal e-Rulemaking Portal. Visit https://www.regulations.gov and type NOAA-NMFS-2023-0124 in the Search box. Click on the “Comment” icon, complete the required fields, and enter or attach your comments.

• Mail: Submit written comments to Gretchen Harrington, Assistant Regional Administrator, Sustainable Fisheries Division, Alaska Region NMFS, Attn: Records Office. Mail comments to P.O. Box 21668, Juneau, AK 99802-1668.

• Fax: (907) 586-7465; Attn: Gretchen Harrington.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter“N/A” in the required fields if you wish to remain anonymous).

FOR FURTHER INFORMATION CONTACT: Steve Whitney, 907-586-7228.

SUPPLEMENTARY INFORMATION: NMFS manages the groundfish fishery in the BSAI exclusive economic zone according to the FMP prepared by the North Pacific Fishery Management Council (Council) under authority of the Magnuson-Stevens Fishery Conservation and Management Act (Magnuson-Stevens Act). Regulations governing fishing by U.S. vessels in accordance with the FMP appear at subpart H of both 50 CFR part 600 and 50 CFR part 679.

The final 2024 and 2025 harvest specifications for groundfish in the BSAI (89 FR 17287, March 11, 2024) set the 2025 Bering Sea (BS) pollock TAC at 1,325,000 metric tons (mt), the 2025 BSAI Atka mackerel TAC at 66,165 mt, the 2025 BS Pacific cod TAC at 132,726 mt, and the 2024 Aleutian Islands (AI) Pacific cod TAC at 8,080 mt. In December 2024, the Council recommended a 2025 BS pollock TAC of 1,375,000 mt, which is more than the 1,325,000 mt TAC established by the final 2024 and 2025 harvest specifications for groundfish in the BSAI. The Council also recommended a 2025 BSAI Atka mackerel TAC of 82,000 mt, which is more than the 66,165 mt TAC established by the final 2024 and 2025 harvest specifications for groundfish in the BSAI. Furthermore, the Council recommended a 2025 BS Pacific cod TAC of 133,602 mt, and an AI Pacific cod TAC of 8,694 mt, which is more than the BS Pacific cod TAC of 132,726 mt, and more than the AI Pacific cod TAC of 8,080 mt established by the final 2024 and 2025 harvest specifications for groundfish in the BSAI. The Council's recommended 2025 TACs, and the area and seasonal apportionments, are based on the Stock Assessment and Fishery Evaluation report (SAFE), dated November 2024, which NMFS has determined is the best scientific information available for these fisheries.

Steller sea lions occur in the same location as the pollock, Atka mackerel, and Pacific cod fisheries and are listed as endangered under the Endangered Species Act. Pollock, Atka mackerel, and Pacific cod are a principal prey species for Steller sea lions in the BSAI. The seasonal apportionment of pollock, Atka mackerel, and Pacific cod harvest is necessary to ensure the groundfish fisheries are not likely to cause jeopardy of extinction or adverse modification of critical habitat for Steller sea lions. NMFS published regulations and the revised harvest limit amounts for pollock, Atka mackerel, and Pacific cod fisheries to implement Steller sea lion protection measures to insure that groundfish fisheries of the BSAI are not likely to jeopardize the continued existence of the western distinct population segment of Steller sea lions or destroy or adversely modify their designated critical habitat (79 FR 70286, November 25, 2014).

In accordance with § 679.25(a)(1)(iii), (a)(2)(i)(B), and (a)(2)(iv), the Administrator, Alaska Region, NMFS (Regional Administrator), has determined that, based on the November 2024 SAFE report for these fisheries, the current BSAI pollock, Atka mackerel, and Pacific cod TACs are incorrectly specified. Pursuant to § 679.25(a)(1)(iii), the Regional Administrator is adjusting the 2025 BS pollock TAC to 1,375,000 mt, the 2025 BSAI Atka mackerel TAC to 82,000 mt, the 2025 BS Pacific cod TAC to 133,602 mt, and the 2025 AI Pacific cod TAC to 8,694 mt. Therefore, table 2 of the final 2024 and 2025 harvest specifications for groundfish in the BSAI (89 FR 17287, March 11, 2024) is revised consistent with this adjustment.

Pursuant to § 679.20(a)(5)(i) and (iii), table 5 of the final 2024 and 2025 harvest specifications for groundfish in the BSAI (89 FR 17287, March 11, 2024) is revised for the 2025 BS and AI allocations of pollock TAC to the directed pollock fisheries, the Community Development Quota (CDQ) directed fishing allowances (DFA), and the incidental catch allowance (ICA) consistent with this adjustment.

Table 5—Final 2025 Allocations of Pollock TACs to the Directed Pollock Fisheries and to the CDQ Directed Fishing Allowances ¹
[Amounts are in metric tons]
Area and sector | 2025 Allocations | 2025 A season ¹: A season DFA | 2025 A season ¹: SCA harvest limit ² | 2025 B season ¹: B season DFA
BS subarea TAC ¹ | 1,375,000 | n/a | n/a | n/a
CDQ DFA | 137,500 | 61,875 | 38,500 | 75,625
ICA ¹ | 46,000 | n/a | n/a | n/a
Total BS non-CDQ DFA | 1,191,500 | 536,175 | 333,620 | 655,325
AFA Inshore | 595,750 | 268,088 | 166,810 | 327,663
AFA Catcher/Processors (CPs) ³ | 476,600 | 214,470 | 133,448 | 262,130
Catch by CPs | 436,089 | 196,240 | n/a | 239,849
Catch by Catcher Vessels (CVs) ³ | 40,511 | 18,230 | n/a | 22,281
Unlisted CP Limit ⁴ | 2,383 | 1,072 | n/a | 1,311
AFA Motherships | 119,150 | 53,618 | 33,362 | 65,533
Excessive Harvesting Limit ⁵ | 208,513 | n/a | n/a | n/a
Excessive Processing Limit ⁶ | 357,450 | n/a | n/a | n/a
AI subarea ABC | 46,051 | n/a | n/a | n/a
AI subarea TAC ¹ | 19,000 | n/a | n/a | n/a
CDQ DFA | 1,900 | 1,900 | n/a |
ICA | 3,000 | 1,500 | n/a | 1,500
Aleut Corporation | 14,100 | 14,100 | n/a |
Area harvest limit ⁷ | n/a | n/a | n/a | n/a
541 | 13,815 | n/a | n/a | n/a
542 | 6,908 | n/a | n/a | n/a
543 | 2,303 | n/a | n/a | n/a
Bogoslof District ICA ⁸ | 250 | n/a | n/a | n/a
Note: Seasonal or sector apportionments may not total precisely due to rounding.
¹ Pursuant to § 679.20(a)(5)(i)(A), the BS subarea pollock TAC, after subtracting the CDQ DFA (10 percent) and the ICA (46,000 mt), is allocated as a DFA as follows: inshore sector—50 percent, catcher/processor sector (CP)—40 percent, and mothership sector—10 percent. In the BS subarea, 45 percent of the DFA and CDQ DFA are allocated to the A season (January 20-June 10) and 55 percent of the DFA and CDQ DFA are allocated to the B season (June 10-November 1). When the AI pollock ABC equals or exceeds 19,000 mt, the annual TAC is equal to 19,000 mt (§ 679.20(a)(5)(iii)(B)(1)). Pursuant to § 679.20(a)(5)(iii)(B)(2), the AI subarea pollock TAC, after subtracting first for the CDQ DFA (10 percent) and second for the ICA (3,000 mt), is allocated to the Aleut Corporation for a pollock directed fishery. In the AI subarea, the A season is allocated no more than 40 percent of the AI pollock ABC.
² In the BS subarea, pursuant to § 679.20(a)(5)(i)(C), no more than 28 percent of each sector's annual DFA may be taken from the SCA before noon, April 1. The SCA is defined at § 679.22(a)(7)(vii).
³ Pursuant to § 679.20(a)(5)(i)(A)(4), 8.5 percent of the allocation to listed CPs shall be available for harvest only by eligible catcher vessels with a CP endorsement delivering to listed CPs, unless there is a CP sector cooperative contract for the year.
⁴ Pursuant to § 679.20(a)(5)(i)(A)(4)(iii), the AFA unlisted CPs are limited to harvesting not more than 0.5 percent of the CP sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the AI pollock ABC.
⁸ Pursuant to § 679.22(a)(7)(B), the Bogoslof District is closed to directed fishing for pollock. The amounts specified are for incidental catch only and are not apportioned by season or sector.

Pursuant to § 679.20(a)(8), table 8 of the final 2024 and 2025 harvest specifications for groundfish in the BSAI (89 FR 17287, March 11, 2024) is revised for the 2025 seasonal and spatial allowances, gear shares, CDQ reserve, incidental catch allowance, jig, BSAI trawl limited access, and Amendment 80 allocations of the BSAI Atka mackerel TAC consistent with this adjustment.

Table 8—Final 2025 Seasonal and Spatial Allowances, Gear Shares, CDQ Reserve, Incidental Catch Allowance, and Amendment 80 Allocations of the BSAI Atka Mackerel TAC
[Amounts are in metric tons]
Sector ¹ | Season ² ³ ⁴ | 2025 Allocation by area: Eastern AI District/BS | 2025 Allocation by area: Central AI District ⁵ | 2025 Allocation by area: Western AI District
TAC | n/a | 39,000 | 24,443 | 18,557
CDQ reserve | Total | 4,173 | 2,615 | 1,986
| A | 2,087 | 1,308 | 993
| Critical Habitat | n/a | 785 | 596
| B | 2,087 | 1,308 | 993
| Critical Habitat | n/a | 785 | 596
Non-CDQ TAC | n/a | 34,827 | 21,828 | 16,571
ICA | Total | 800 | 100 | 20
Jig ⁶ | Total | 170 |  |
BSAI trawl limited access | Total | 3,386 | 2,173 |
| A | 1,693 | 1,086 |
| Critical Habitat | n/a | 652 |
| B | 1,693 | 1,086 |
| Critical Habitat | n/a | 652 |
Amendment 80 sector | Total | 30,471 | 19,555 | 16,551
| A | 15,236 | 9,777 | 8,276
| Critical Habitat | n/a | 5,866 | 4,965
| B | 15,236 | 9,777 | 8,276
| Critical Habitat | n/a | 5,866 | 4,965
Note: Seasonal or sector apportionments may not total precisely due to rounding.
¹ Section 679.20(a)(8)(ii) allocates the Atka mackerel TACs, after subtracting the CDQ reserves, ICAs, and jig gear allocation, to the Amendment 80 and BSAI trawl limited access sectors. The allocation of the ITAC for Atka mackerel to the Amendment 80 and BSAI trawl limited access sectors is established in table 33 to 50 CFR part 679 and § 679.91. The CDQ reserve is 10.7 percent of the TAC for use by CDQ participants (see § 679.20(b)(1)(ii)(C)).
² Sections 679.20(a)(8)(ii)(A) and 679.22(a) establish temporal and spatial limitations for the Atka mackerel fishery.
³ The seasonal allowances of Atka mackerel for the CDQ reserve, BSAI trawl limited access sector, and Amendment 80 sector are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion protection areas; section 679.20(a)(8)(ii)(C)(1)(ii) equally divides the annual harvest limits between the A and B seasons as defined at § 679.23(e)(3); and section 679.20(a)(8)(ii)(C)(2) requires that the TAC in Area 543 shall be no more than 65 percent of ABC in Area 543.
⁶ Sections 679.2 and 679.20(a)(8)(i) require that up to 2 percent of the Eastern AI District and the BS subarea TAC be allocated to jig gear after subtracting the CDQ reserve and the ICA. NMFS sets the amount of this allocation for 2025 at 0.5 percent. The jig gear allocation is not apportioned by season.

Pursuant to § 679.20(a)(7), table 10 of the final 2024 and 2025 harvest specifications for groundfish in the BSAI (89 FR 17287, March 11, 2024) is revised for the 2025 gear shares and seasonal allowances of the BSAI Pacific cod TAC, CDQ DFAs, and Pacific cod trawl cooperatives (PCTC) DFAs consistent with this adjustment.

Table 10—Final 2025 Sector Allocations and Seasonal Allowances of the BSAI Pacific Cod TAC
[Amounts are in metric tons]
Sector | Percent | 2025 share of gear sector total | 2025 share of sector total | 2025 seasonal allowances: Season | 2025 seasonal allowances: Amount
Total BS TAC | n/a | 133,602 | n/a | n/a | n/a
BS CDQ | n/a | 14,295 | n/a | See § 679.20(a)(7)(i)(B) | n/a
BS non-CDQ TAC | n/a | 119,307 | n/a | n/a | n/a
Total AI TAC | n/a | 8,694 | n/a | n/a | n/a
AI CDQ | n/a | 930 | n/a | See § 679.20(a)(7)(i)(B) | n/a
AI non-CDQ TAC | n/a | 7,764 | n/a | n/a | n/a
Western AI Limit | n/a | 3,173 | n/a | n/a | n/a
Total BSAI non-CDQ TAC ¹ | 100 | 127,070 | n/a | n/a | n/a
Total hook-and-line/pot gear | 60.8 | 77,259 | n/a | n/a | n/a
Hook-and-line/pot ICA ² | n/a | n/a | 500 | n/a | n/a
Hook-and-line/pot sub-total | n/a | 76,759 | n/a | n/a | n/a
Hook-and-line catcher/processors | 48.7 | n/a | 61,483 | n/a | n/a
A-season |  |  |  | Jan-1-Jun 10 | 31,356
B-season |  |  |  | Jun 10-Dec 31 | 30,127
Hook-and-line catcher vessels ≥60 ft (18.288 meters) LOA | 0.2 | n/a | 252 | n/a | n/a
A-season |  |  |  | Jan 1-Jun 10 | 129
B-season |  |  |  | Jun 10-Dec 31 | 124
Pot catcher/processors | 1.5 | n/a | 1,894 | n/a | n/a
A-season |  |  |  | Jan 1-Jun 10 | 966
B-season |  |  |  | Sept 1-Dec 31 | 928
Pot catcher vessels ≥60 ft LOA | 8.4 | n/a | 10,605 | n/a | n/a
A-season |  |  |  | Jan 1-Jun 10 | 5,408
B-season |  |  |  | Sept 1-Dec 31 | 5,196
Catcher vessels <60 ft LOA using hook-and-line or pot gear | 2 | n/a | 2,525 | n/a | n/a
Trawl catcher vessels ³ | 22.1 | 28,083 | n/a | n/a | n/a
A-Season ICA |  |  |  | Jan 20-Apr 1 | 1,500
A-season PCTC |  |  |  | Jan 20-Apr 1 | 19,281
B-season ICA |  |  |  | Apr 1-Jun 10 | 700
B-season PCTC |  |  |  | Apr 1-Jun 10 | 2,389
C-season trawl catcher vessels |  |  |  | Jun 10-Nov 1 | 4,212
AFA trawl catcher/processors | 2.3 | 2,923 | n/a | n/a | n/a
A-season |  |  |  | Jan 20-Apr 1 | 2,192
B-season |  |  |  | Apr 1-Jun 10 | 731
C-season |  |  |  | Jun 10-Nov 1 |
Amendment 80 | 13.4 | 17,027 | n/a | n/a | n/a
A-season |  |  |  | Jan 20-Apr 1 | 12,771
B-season |  |  |  | Apr 1-Jun 10 | 4,257
C-season |  |  |  | Jun 10-Dec 31 |
Jig | 1.4 | 1,779 | n/a | n/a | n/a
A-season |  |  |  | Jan 1-Apr 30 | 1,067
B-season |  |  |  | Apr 30-Aug 31 | 356
C-season |  |  |  | Aug 31-Dec 31 | 356
Note: Seasonal or sector apportionments may not total precisely due to rounding.
¹ The sector allocations and seasonal allowances for BSAI Pacific cod TAC are based on the sum of the BS and AI Pacific cod TACs, after subtraction of the reserves for the CDQ Program. If the TAC for Pacific cod in either the BS or AI is or will be reached, then directed fishing will be prohibited for non-CDQ Pacific cod in that subarea, even if a BSAI allowance remains (§ 679.20(d)(1)(iii)).
² The ICA for the hook-and-line and pot sectors is deducted from the aggregate portion of Pacific cod TAC allocated to the hook-and-line and pot sectors. The Regional Administrator approves an ICA of 500 mt based on anticipated incidental catch by these sectors in other fisheries.
³ The A and B season trawl CV Pacific cod allocation is allocated to the Pacific Cod Trawl Cooperative Program after subtraction of the A and B season ICAs (§ 679.131(b)(1)). The Regional Administrator approves for the A and B seasons, ICAs of 1,500 mt and 700 mt, respectively, to account for projected incidental catch of Pacific cod by trawl catcher vessels engaged in directed fishing for groundfish other than PCTC Program Pacific cod.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would allow for harvests that exceed the appropriate allocations for pollock, Atka mackerel, and Pacific cod in the BSAI based on the best scientific information available. NMFS was unable to publish a notice providing time for public comment because the most recent, relevant data only became available as of December 9, 2024.

Without this inseason adjustment, NMFS could not allow the fishery for pollock, Atka mackerel, and Pacific cod in the BSAI to be harvested in an expedient manner and in accordance with the regulatory schedule. Under § 679.25(c)(2), interested persons are invited to submit written comments on this action to the above address until January 13, 2025.

Authority: 16 U.S.C. 1801 et seq.

Dated: December 19, 2024.
Kelly Denit,
Director, Office of Sustainable Fisheries, National Marine Fisheries Service.

[FR Doc. 2024-30714 Filed 12-26-24; 8:45 am]

BILLING CODE 3510-22-P